UNITED STATES INSTITUTE OF PEACE

Notice of Meeting

Date/Time: Tuesday, November 28, 2006, 9 a.m.-3 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: November 28, 2006 Board Meeting; Approval of Minutes of the One Hundred Twenty-Fourth Meeting (September 28, 2006) of the Board of Directors; Chairman's Report; President's Report; Budget Update; Iraq Study Group Update; Other General Issues.

Contact: Tessie F. Higgs, Executive Office, Telephone: (202) 429-3836.

Dated: November 20, 2006.
Patricia P. Thomson,
Executive Vice President, United States Institute of Peace.

[FR Doc. 06-9415 Filed 11-22-06; 10:33 am]

BILLING CODE 6820-AR-M